DEPARTMENT OF ENERGY

Federal Energy Regulatory Commission

[Project No. 11516-000]

Commonwealth Power Company; Notice Granting Intervention

March 7, 2000.

On February 9, 1995, the Commission issued a notice of the application for a license filed by Commonwealth Power Company (Commonwealth) for the existing Irving Dam Project No. 11516, located on the Thornapple River in Barry County, Michigan. The notice established April 10, 1995, as the deadline for filing motions to intervene.

On March 24, 1995, the Michigan Department of Natural Resources (MDNR) filed a timely request for intervention. Commonwealth filed a response in opposition to the motion.

Granting the motion to intervene will not unduly delay or disrupt the proceeding or prejudice other parties to it. Therefore, pursuant to Rule 214,¹ the motion to intervene in this proceeding file by MDNR is granted, subject to the Commission's Rules and Regulations.

¹ 18 CFR 385.214 (1999).

David P. Boergers,
Secretary.

[FR Doc. 00-5990 Filed 3-10-00; 8:45 am]

BILLING CODE 6717-01-M